DEPARTMENT OF TRANSPORTATION

Federal Aviation Administration

14 CFR Part 39

[Docket No. FAA-2008-0115; Directorate Identifier 2007-NM-240-AD; Amendment 39-15723; AD 2008-23-02]

RIN 2120-AA64

Airworthiness Directives; Saab Model SAAB 2000 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

One Part Number (P/N) LM-219-92 Centre Bracket from a P/N LM-219-SA28 Aft Engine Mounting assembly was found to be cracked while installed on the aircraft.

This reduces the effectiveness of the mounting assembly and could eventually cause it to fail.

* * * * *

A failed mounting assembly, if not corrected, could result in loss of the engine. We are issuing this AD to require actions to correct the unsafe condition on these products.

DATES: This AD becomes effective December 22, 2008.

The Director of the Federal Register approved the incorporation by reference of a certain publication listed in this AD as of December 22, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Shahram Daneshmandi, Aerospace Engineer, International Branch, ANM-116, Transport Airplane Directorate, FAA, 1601 Lind Avenue, SW., Renton, Washington 98057-3356; telephone (425) 227-1112; fax (425) 227-1149.

SUPPLEMENTARY INFORMATION:

Discussion

We issued a supplemental notice of proposed rulemaking (NPRM) to amend 14 CFR part 39 to include an AD that would apply to the specified products. That supplemental NPRM was published in the Federal Register on August 29, 2008 (73 FR 50903). That supplemental NPRM proposed to correct an unsafe condition for the specified products. The MCAI states:

One Part Number (P/N) LM-219-92 Centre Bracket from a P/N LM-219-SA28 Aft Engine Mounting assembly was found to be cracked while installed on the aircraft.

This reduces the effectiveness of the mounting assembly and could eventually cause it to fail.

EASA Airworthiness Directive (AD) was issued to require inspection and rework in order to make the centre bracket less sensitive to external damage that may result in a crack.

This AD, superseding AD 2007-0204, has been issued to introduce an alternative repeatable inspection procedure.

A failed mounting assembly, if not corrected, could result in loss of the engine. The corrective actions include an inspection to determine if there are any sharp edges on the aft engine mounting assembly; repetitive visual inspections, or a combination of visual and fluorescent penetrant inspection, for cracking of the center bracket of the aft engine mounting assembly for both engines; rework of sharp edges; replacement of the aft engine mounting assemblies; and re-identification of engine mounting assemblies and reworked center bracket. You may obtain further information by examining the MCAI in the AD docket.

Comments

We gave the public the opportunity to participate in developing this AD. We received no comments on the supplemental NPRM or on the determination of the cost to the public.

Conclusion

We reviewed the available data and determined that air safety and the public interest require adopting the AD as proposed in the supplemental NPRM.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 6 products of U.S. registry. We also estimate that it will take about 8 work-hours per product to comply with the basic requirements of this AD. The average labor rate is $80 per work-hour. Based on these figures, we estimate the cost of this AD to the U.S. operators to be $3,840, or $640 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-23-02 Saab Aircraft AB: Amendment 39-15723. Docket No. FAA-2008-0115; Directorate Identifier 2007-NM-240-AD.

Effective Date

(a) This airworthiness directive (AD) becomes effective December 22, 2008.

Affected ADs

(b) None.

Applicability

(c) This AD applies to Saab Model SAAB 2000 airplanes, certificated in any category, serial number 004 through 063.

Subject

(d) Air Transport Association (ATA) of America Code 71: Powerplant.

Reason

(e) The mandatory continuing airworthiness information (MCAI) states:

One Part Number (P/N) LM-219-92 Centre Bracket from a P/N LM-219-SA28 Aft Engine Mounting assembly was found to be cracked while installed on the aircraft.

This reduces the effectiveness of the mounting assembly and could eventually cause it to fail.

EASA Airworthiness Directive (AD) was issued to require inspection and rework in order to make the centre bracket less sensitive to external damage that may result in a crack.

This AD, superseding AD 2007-0204, has been issued to introduce an alternative repeatable inspection procedure.

A failed mounting assembly, if not corrected, could result in loss of the engine. The corrective actions include an inspection to determine if there are any sharp edges on the aft engine mounting assembly; repetitive visual inspections, or a combination of visual and fluorescent penetrant inspection, for cracking of the center bracket of the aft engine mounting assembly for both engines; rework of sharp edges; replacement of the aft engine mounting assemblies; and re-identification of engine mounting assemblies and reworked center bracket.

Actions and Compliance

(f) Unless already done, do the following actions.

(1) Within 1,000 flight hours after the effective date of this AD, do visual inspections of both the aft engine mounting assemblies to find if the center bracket is correct (no sharp edges) from the manufacturer.

(2) If no sharp edge is found during the inspection required by paragraph (f)(1) of this AD, before further flight, inspect to determine if the aft engine mounting assembly and center bracket are identified with a “-1,” and before further flight re-identify the parts that are not identified with a “-1,” in accordance with the Accomplishment Instructions of Saab Service Bulletin 2000-71-025, dated June 13, 2007. Following the re-identification, no further action is required by this AD for airplanes on which no sharp edge is found during the inspection required by paragraph (f)(1) of this AD.

(3) If any sharp edge is found during the inspection required by paragraph (f)(1) of this AD, before further flight, do the action in paragraph (f)(3)(i) or (f)(3)(ii) of this AD in accordance with the Accomplishment Instructions of Saab Service Bulletin 2000-71-025, dated June 13, 2007.

(i) Do a general visual inspection for cracking of the center bracket of both of the aft engine mounting assemblies, with the bracket on the wing, and repeat the inspection thereafter at intervals not to exceed 250 flight hours until the action required by paragraph (f)(4) of this AD is accomplished.

(ii) Do general visual and penetrant inspections for cracking of the center bracket of both of the aft engine mounting assemblies, with the bracket off the wing.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(4) At the applicable time in paragraph (f)(4)(i) or (f)(4)(ii) of this AD, do the applicable actions in those paragraphs in accordance with the Accomplishment Instructions of Saab Service Bulletin 2000-71-025, dated June 13, 2007. Doing the applicable action terminates the repetitive inspection requirements of paragraph (f)(3)(i) of this AD.

(i) If no cracking is found during any inspection required by paragraph (f)(3) of this AD: Within 4,000 flight hours after the effective date of this AD, rework the center bracket, and re-identify the aft engine mounting assembly and center bracket.

(ii) If any cracking is found during any inspection required by paragraph (f)(3) of this AD, before further flight, replace the aft engine mounting assembly with an assembly and bracket identified with a “-1” part number.

(5) Actions done before the effective date of this AD in accordance with Saab Service Bulletin 2000-71-023, Revision 01, dated June 13, 2007, are acceptable for compliance with the corresponding requirements of paragraph (f)(3) of this AD.

FAA AD Differences

Note 2: This AD differs from the MCAI and/or service information as follows: Although the MCAI or service information allows further flight after cracks are found during compliance with the required action, paragraph (f)(4) of this AD requires that you replace a cracked aft engine mounting assembly before further flight.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Shahram Daneshmandi, Aerospace Engineer, International Branch, ANM-116, Transport Airplane Directorate, FAA, 1601 Lind Avenue, SW., Renton, Washington 98057-3356; telephone (425) 227-1112; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0068, dated April 11, 2008; and Saab Service Bulletin 2000-71-025, dated June 13, 2007; for related information.

Material Incorporated by Reference

(i) You must use Saab Service Bulletin 2000-71-025, dated June 13, 2007, to do the actions required by this AD, unless the AD specifies otherwise.

(1) The Director of the Federal Register approved the incorporation by reference of this service information under 5 U.S.C. 552(a) and 1 CFR part 51.

(2) For service information identified in this AD, contact Saab Aircraft AB, SAAB Aircraft Product Support, S-581.88, Linköping, Sweden; telephone 011 46 13 18 5591; fax 011 46 13 18 4874; e-mail http://www.saab2000.techsupport@saabgroup.com; Internet http://www.saabgroup.com.

(3) You may review copies at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Issued in Renton, Washington, on October 24, 2008.
Ali Bahrami,
Manager, Transport Airplane Directorate, Aircraft Certification Service.

[FR Doc. E8-26364 Filed 11-14-08; 8:45 am]

BILLING CODE 4910-13-P